DEPARTMENT OF HOMELAND SECURITY

Coast Guard

33 CFR Part 117

[Docket No. USCG-2009-1129]

Drawbridge Operation Regulation; Inner Harbor Navigational Canal, New Orleans, LA

AGENCY: Coast Guard, DHS.

ACTION: Notice of temporary deviation from regulations.

SUMMARY: The Commander, Eighth Coast Guard District, has issued a temporary deviation from the regulation governing the operation of the Senator Ted Hickey (Leon C. Simon) Bascule Bridge across the Inner Harbor Navigational Canal, mile 4.6, at New Orleans, LA. The deviation is necessary to ensure the safety of pedestrians as they bike across the bridge for the Ochsner Ironman 70.3 New Orleans event. This deviation allows the bridge to remain closed during the event.

DATES: This deviation is effective from 5 a.m. to 2 p.m. on April 18, 2010.

ADDRESSES: Documents mentioned in this preamble as being available in the docket are part of docket USCG-2009-1129 and are available online by going to http://www.regulations.gov, inserting USCG-2009-1129 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lindsey Middleton, Bridge Administration Branch; telephone 504-671-2128, e-mail Lindsey.R.Middleton@uscg.mil. If you have questions on viewing the docket, call Renee V. Wright, Program Manager, Docket Operations, telephone 202-366-9826.

SUPPLEMENTARY INFORMATION: The bridge owner approved the request for the closure of the Senator Ted Hickey (Leon C. Simon) Bascule Bridge on Seabrook Highway crossing the Inner Harbor Navigational Canal, mile 4.6, in New Orleans, LA. In the closed-to-navigation position, the vertical clearance of the bridge is 45 feet above mean sea level. Currently, according to 33 CFR 117.458 (c), The draw of the Leon C. Simon Blvd. (Seabrook) bridge, mile 4.6, shall open on signal; except that, from 7 a.m. to 8:30 a.m. and 5 p.m. to 6:30 p.m. Monday through Friday, the draw need not be opened. This deviation allows the draw span of the bridge to remain closed to navigation between 5 a.m. and 2 p.m. on April 18, 2010 while the Ironman contenders travel across the bridge as part of the 56 mile bike course. Navigation on the waterway consists mainly of tugs with tows. As a result of coordination between the Coast Guard and the waterway users, it has been determined that this closure will not have a significant effect on these vessels. The Coast Guard will inform users through the Local and Broadcast Notice to Mariners of the closure period. There are alternate routes available to vessel traffic. Vessels that can pass under the bridge in the closed-to-navigation position can do so at any time. The bridge will not be able to open for emergencies.

In accordance with 33 CFR 117.35(e), the drawbridge must return to its regular operating schedule immediately at the end of the designated time period. This deviation from the operating regulations is authorized under 33 CFR 117.35.

Dated: January 19, 2010.
David M. Frank,
Bridge Administrator.

[FR Doc. 2010-1801 Filed 1-28-10; 8:45 am]

BILLING CODE 9110-04-P